SMALL BUSINESS ADMINISTRATION

Public Federal Regulatory Enforcement Fairness Roundtable; Region X Regulatory Fairness Board

The Small Business Administration Region X Regulatory Fairness Board and the SBA Office of the National Ombudsman will hold a Public Roundtable on Wednesday, July 28, 2004 at 8:30 a.m. at the State Capitol Building, Hearing Room E, 900 Court Street, NE., Salem, OR 97301-4042, to provide small business owners and representatives of trade associations with an opportunity to share information concerning the federal regulatory enforcement and compliance environment.

Anyone wishing to attend or to make a presentation must contact Moe Mowery in writing or by fax, in order to be put on the agenda. Moe Mowery, Business Development Officer, Small Business Administration Portland District Office, 1515 S.W. Fifth Avenue, Suite 1050, Portland, OR 97201-5494, phone (503) 326-5209, fax (202) 481-4411, e-mail: marlin.mowery@sba.gov.

For more information, see our Web site at http://www.sba.gov/ombudsman.

Dated: June 23, 2004.
Peter Sorum,
Senior Advisor, Office of the National Ombudsman.

[FR Doc. 04-14712 Filed 6-28-04; 8:45 am]

BILLING CODE 8025-01-P